DEPARTMENT OF TRANSPORTATION

Federal Highway Administration

Environmental Impact Statement: Cameron, Hidalgo, And Willacy Counties, Texas

AGENCY: Texas Department of Transportation (TxDOT), Federal Highway Administration (FHWA), Department of Transportation.

ACTION: Federal notice of intent to prepare an Environmental Impact Statement (EIS).

SUMMARY: FHWA, on behalf of TxDOT, is issuing this notice to advise the public that an EIS will be prepared for a proposed transportation project to study the effects of constructing a highway improvement project from Interstate Highway (I-) 69C/United States Highway (US) 281 to I-69E/US 77 in Hidalgo, Cameron, and Willacy Counties, Texas (CSJ: 0921-02-353). The proposed project will be referred to herein as I-69 Connector, or the I-69 Connector Project. The proposed project is approximately 25 miles in length.

FOR FURTHER INFORMATION CONTACT: Francisco Chapa, P.E., TxDOT Pharr District Project Manager, 600 West I-2, Pharr, Texas, 78577, (956) 702-6344, Francisco.chapa@txdot.gov.

SUPPLEMENTARY INFORMATION: The environmental review, consultation, and other actions required by applicable Federal environmental laws for this project are being, or have been, carried-out by TxDOT pursuant to 23 U.S.C. 327 and a Memorandum of Understanding dated December 9, 2019, and executed by FHWA and TxDOT.

The purpose and need of the proposed I-69 Connector is to alleviate/reduce traffic congestion and improve regional mobility, to improve and increase transportation network connectivity, to address future population growth and travel demands, and to provide an east-west hurricane evacuation route.

The proposed project would evaluate a new potential connection from I-69C/US 281 to I-69E/US 77 in Hidalgo, Cameron, and Willacy Counties, Texas (CSJ: 0921-02-353). The proposed project could potentially include constructing a highway on new location for approximately 25 miles with grade separations at intersections with major crossroads.

The EIS will evaluate a range of build alternatives and a no-build alterative. Possible build alternatives include the four alternatives that were evaluated in the I-69 Connector Route Feasibility Study. Each alternative would be evaluated on the same right-of-way width and level of detail during the Alternative Analysis process.

Alternative A

Alternative A starts on the western end at the intersection of I-69C/US 281 and State Highway (SH) 107. It follows SH 107 for approximately 3.2 miles to the east, where SH 107 curves north, before continuing on new location eastward for approximately 12.3 miles. After intersection with International Boundary and Water Commission (IBWC)'s North Floodway, the alignment follows SH 107 southeast for 2.2 miles before turning north at the intersection of Farm-to-Market (FM) 1425 for approximately 1.1 miles and continuing east for approximately 6.5 miles until the eastern end of the project at I-69E/US 77. Alternative A is on partial new location and approximately 25.5 miles long.

Alternative B

Alternative B starts on new alignment at the western end at I-69C/US 281 and approximately 0.15 mile south of E. Richardson Road. This alignment continues east for approximately 3.4 miles, and curves slightly south at the intersection of SH 107 before continuing on new location for approximately 12.3 miles. After the alignment's intersection with the IBWC's North Floodway, the alignment moves slightly south until the intersection with FM 1425 for approximately 2.1 miles, then continues east for approximately 7 miles until the eastern end of the project at I-69E/US 77. Alternative B is on new location and approximately 24.8 miles long.

Alternative C

Alternative C starts on new alignment at the western end at I-69C/US 281 and approximately 0.70 mile north of E. Richardson Road. The alignment continues east for approximately 9.7 miles until curving south after the intersection with FM 88. The alignment continues east for approximately 15.3 miles until the eastern end of the project at I-69E/US 77. Alternative C is on new location and approximately 25 miles long.

Alternative D

Alternative D starts on new alignment at the western end at I-69C/US 281 and approximately 0.7 mile north of E. Richardson Road. The alignment continues east for approximately 9.3 miles until curving north 0.3 mile west of the intersection with FM 88. The alignment continues northeast for approximately 4.3 miles then continues east for approximately 9.6 miles until the intersection with I-69E/US 77. Alternative D is on new location and approximately 23 miles long.

Section 106 and Section 4(f) Historic Properties. The proposed build alternatives will be evaluated for potential adverse impacts to historic properties (i.e. properties that are eligible for or listed in the National Register of Historic Places) within the study area.

Environmental Justice (EJ). The proposed build alternatives will be evaluated for potential adverse impacts to EJ communities due to anticipated relocations as well as other impacts such as access, noise, and visual aesthetics. Additional analysis and public involvement will be conducted during the National Environmental Policy Act process to assess if the project would result in any disproportionately high and adverse effects on low-income and minority communities.

Wildlife and threatened and endangered species. The proposed build alternatives will be evaluated for potential adverse impacts to wildlife and threatened and endangered species within the study area.

Floodplains. The proposed build alternatives will be evaluated for potential adverse impacts to floodplains within the study area.

The EIS will evaluate the potential impacts and benefits to the resources/communities identified above as well as the following other subject areas: Limited English Proficiency communities, land use, right-of-way, social and community resources, traffic noise, air quality, water resources, hazardous materials sites, cultural resources, biological resources, protected lands 4(f) and 6(f), and visual resources.

It is anticipated that the following would be required: Texas Antiquities Code permit and concurrence, Section 106 historic/archeological resources concurrence, Section 4(f) evaluation approval, Section 7 consultation with U.S. Fish and Wildlife, IBWC Permit, and U.S. Army Corp of Engineers Section 404 Nationwide Permit(s).

A Tentative Schedule is outlined below.

The Agency Scoping Meeting was held July 29, 2024.

Public Scoping Meeting: January 21 and 23, 2025.

The FEIS/ROD is anticipated Summer 2027.

In addition to the public scoping meeting, a public hearing will be held after the Draft EIS is prepared. Public notice will provide the time and place of the hearing. After the public hearing and end of Draft EIS comment period, issuance of the Final EIS/Record of Decision is anticipated. If a build alternative is selected, all permits and authorization decisions would occur before construction.

The following entities have been invited to be cooperating agencies for this EIS: U.S. Environmental Protection Agency, U.S. Fish and Wildlife Service, U.S. Department of Agriculture, Natural Resource Conservation Service, National Park Service, U.S. Army Corp of Engineers, Federal Emergency Management Agency, Federal Transit Administration, Federal Railroad Administration, International Boundary and Water Commission, U.S. Customs and Border Protection, U.S. Department of Housing and Urban Development, Santa Ana National Wildlife Refuge, Lower Rio Grande Valley National Wildlife Refuge, Kiowa Tribe, Mescalero Apache Tribe, Tonkawa Tribe of Oklahoma, Apache Tribe of Oklahoma, and Comanche Nation of Oklahoma.

The following entities have been invited to be participating agencies for this EIS: Texas Commission on Environmental Quality, McAllen Historic Preservation Council, Texas Division of Emergency Management, The Texas General Land Office, Texas Historical Commission/State Historic Preservation Officer, Texas Parks and Wildlife Department, Cameron County Regional Mobility Authority, Hidalgo County Regional Mobility Authority, Hidalgo County Planning and Development, Cameron County Planning and Development, Hidalgo County, Cameron County, Willacy County, Texas Department of Public Safety, City of Harlingen, City of Lyford, City of McAllen, City of Donna, City of Edinburg, City of Elsa, City of La Feria, City of La Villa, City of Alamo, City of San Juan, City of Weslaco, City of Mercedes, City of Palm Valley, City of Pharr, City of Raymondville, Town of Combes, Rio Grande Valley Metropolitan Planning Organization, Cameron County Historical Commission, Hidalgo County Historical Commission, Willacy County Historical Commission, Hidalgo County Drainage District No. 1, Cameron County Irrigation District No. 2, McAllen Economic Development Corporation (EDC), Harlingen EDC, Edinburg EDC, Alamo EDC, Donna EDC, Lyford EDC, Mercedes EDC, Pharr EDC, San Juan EDC, Weslaco EDC, Elsa EDC, and Combes EDC.

TxDOT will issue a single Final Environmental Impact Statement and Record of Decision document pursuant to 23 U.S.C. 139(n)(2), unless TxDOT determines statutory criteria or practicability considerations preclude issuance of a combined document.

In accordance with 23 U.S.C. 139, cooperating agencies, participating agencies, and the public will be given an opportunity for continued input on project development. A in-person public scoping meeting is planned for Tuesday, January 21, 2025, from 5 p.m. to 7 p.m. CST at J. Economedes High School 1414 N Alamo Rd, Edinburg, Texas 78541, and January 23, 2025, from 5 p.m. to 7 p.m. CST at Elma E. Barrera Elementary School, Hwy 107, Santa Rosa, Texas 78593. The public scoping meeting will provide an opportunity for the public to review and comment on the draft coordination plan and schedule, the project purpose and need, the range of alternatives, and methodologies and level of detail for analyzing alternatives. It will also allow the public an opportunity to provide input on any expected environmental impacts, anticipated permits or other authorizations, and any significant issues that should be analyzed in depth in the EIS. In addition to the public scoping meeting, a public hearing will be held after the draft EIS is prepared. Public notice will be given of the time and place of the meeting and hearing.

The public meeting will be conducted in English. If you need an interpreter or document translator because English is not your primary language or you have difficulty communicating effectively in English, one will be provided to you. If you have a disability and need assistance, special arrangements can be made to accommodate most needs. If you need interpretation or translation services or you are a person with a disability who requires an accommodation to attend and participate in the public scoping meeting, please contact Norma Robledo, TxDOT Pharr District, at (956) 702-6161 no later than 4 p.m. CT, Thursday, January 16, 2025. Please be aware that advance notice is required as some services and accommodations may require time for the Texas Department of Transportation to arrange.

The public is requested to provide public comments on alternatives or impacts and on relevant information, studies, or analyses with respect to this proposed project. Comments may be provided in writing by mail to Francisco Chapa, TxDOT Project Manager at 600 West I-2, Pharr, Texas, 78577 or by email to Francisco.Chapa@txdot.gov or to PHR_I69_Connector@txdot.gov. Comments must be received by Friday, February 7, 2025.

(Catalog of Federal Domestic Assistance Program Number 20.205, Highway Planning and Construction.)

Michael T. Leary,
Director, Planning and Program Development, Federal Highway Administration.

[FR Doc. 2024-27823 Filed 11-26-24; 8:45 am]

BILLING CODE 4910-22-P